DEPARTMENT OF COMMERCE

National Oceanic and Atmospheric Administration

[RTID 0648-XF053]

South Atlantic Fishery Management Council (Council); Public Meetings

AGENCY: National Marine Fisheries Service (NMFS), National Oceanic and Atmospheric Administration (NOAA), Commerce.

ACTION: Notice of public meetings.

SUMMARY: The South Atlantic Fishery Management Council (Council) will hold a meeting of its advisory panels via webinar to address Executive Order Restoring American Seafood Competitiveness.

DATES: The webinar meeting of advisory panels will take place on August 11, 2025. The meeting will begin at 6 p.m., EDT. See SUPPLEMENTARY INFORMATION.

ADDRESSES: Council address: South Atlantic Fishery Management Council, 4055 Faber Place Drive, Suite 201, N Charleston, SC 29405.

FOR FURTHER INFORMATION CONTACT: Christina Wiegand, Fishery Social Scientist, SAFMC; phone 843/571-4366 or toll free 866/SAFMC-10; FAX 843/769-4520; email: christina.wiegand@safmc.net.

SUPPLEMENTARY INFORMATION: On April 17, 2025, President Trump issued Executive Order 14276: Restoring American Seafood Competitiveness. Among other things, the Executive Order requires the regional fishery management councils to identify actions that would stabilize markets, improve access, enhance economic profitability, and prevent closures. As a part of this process, the South Atlantic Council will gather input from their advisory panels to prioritize which management actions may achieve the goals stated in the Executive Order. Public comment on Executive Order 14276 will be accepted via the Council's website.

The agenda for the webinar meeting of the advisory panels is as follows: Council staff will briefly introduce Executive Order 14276 and the input requested of the Council. The presentation will also include a status update on Council actions identified in 2020 in response to Executive Order 13921: Promoting American Seafood Competitiveness and Economic Growth. Attendees will have the opportunity to provide input on the Executive Orders. The AP meeting is open to the public via webinar. Information will be posted on the Council's website at https://safmc.net/meetings/ as it becomes available.

Written comments from members of the public should be addressed to John Carmichael, Executive Director, SAFMC, 4055 Faber Place Drive, Suite 201, N Charleston, SC 29405. Written comments must be received by August 15, 2025, by 5 p.m.

Special Accommodations

These meetings are physically accessible to people with disabilities. Requests for auxiliary aid should be directed to the Council office (see ADDRESSES) five days prior to the meeting.

Note: The times and sequence specified in this agenda are subject to change.

Authority: 16 U.S.C. 1801 et seq.

Dated: July 24, 2025.
Rey Israel Marquez,
Acting Deputy Director, Office of Sustainable Fisheries, National Marine Fisheries Service.

[FR Doc. 2025-14178 Filed 7-25-25; 8:45 am]

BILLING CODE 3510-22-P